DEPARTMENT OF THE INTERIOR

Bureau of Indian Affairs

Cher-Ae Heights Indian Community of the Trinidad Rancheria Liquor Control Ordinance

AGENCY: Bureau of Indian Affairs, Interior.

ACTION: Notice.

SUMMARY: This notice publishes the Cher-Ae Heights Indian Community of the Trinidad Rancheria Liquor Control Ordinance. The Ordinance regulates the control, possession and sale of liquor on the Trinidad Rancheria trust lands, in conformity with the laws of the State of California, where applicable and necessary. Although the Ordinance was adopted on March 24, 2001, it does not become effective until published in the Federal Register, because the failure to comply with the ordinance may result in criminal charges.

DATES: This Ordinance is effective on April 11, 2002.

FOR FURTHER INFORMATION CONTACT: Kaye Armstrong, Office of Tribal Services, 1849 C Street, NW., MS 4631-MIB, Washington, DC 20240-4001; Telephone (202) 208-4400.

SUPPLEMENTARY INFORMATION: Pursuant to the Act of August 15, 1953, Public Law 277, 67 Stat. 586, 18 U.S.C. 1161, as interpreted by the Supreme Court in Rice v. Rehner, 463 U.S. 713 (1983), the Secretary of the Interior shall certify and publish in the Federal Register notice of adopted liquor ordinances for the purpose of regulating liquor transaction in Indian country. The Cher-Ae Heights Indian Community of the Trinidad Rancheria Liquor Control of the Trinidad Rancheria Community Council, governing body of the Trinidad Rancheria, on March 24, 2001. The Cher-Ae Heights Indian Community of the Trinidad Rancheria, in furtherance of its economic and social goals, has taken positive steps to regulate retail sales of alcohol and use revenue to combat alcohol abuse and its debilitating effects among individuals and family members within the Trinidad Rancheria.

This notice is published in accordance with the authority delegated by the Secretary of the Interior to the Assistant Secretary—Indian Affairs by 209 Departmental Manual 8.1.

I certify that by Resolution No. G-007, the Cher-Ae Heights Indian Community of the Trinidad Rancheria Liquor Control Ordinance was duly adopted by the Cher-Ae Heights Indian Community of the Trinidad Rancheria Community Council, governing body of the Trinidad Rancheria, on March 24, 2001.

Dated: April 1, 2002.
Neal A. McCaleb,
Assistant Secretary—Indian Affairs.

The Cher-Ae Heights Indian Community of the Trinidad Rancheria Liquor Control Ordinance, Resolution No. G-007, reads as follows:

Cher-Ae Heights Indian Community of the Trinidad Rancheria Community Council Ordinance No. G-007

I. Sale and Consumption of Alcoholic Beverages

The Community Council of the Cher-Ae Heights Indian Community of the Trinidad Rancheria (hereinafter Council), governing body of the Trinidad Rancheria (hereinafter Tribe), hereby enacts this Ordinance to govern the sale and consumption of alcoholic beverages on Rancheria lands.

II. Preamble

1. Title 18, United States Code, Section 1161, provides Indian tribes with authority to enact ordinances governing the consumption and sale of alcoholic beverages on their Reservations, provided such ordinance is certified by the Secretary of the Interior, published in the Federal Register and such activities are in conformity with state law.

2. Pursuant to Article 3 of the Articles of Association, the Community Council is the governing body of the Tribe with the power to enact ordinances to promote the general welfare and economic advancement of the Tribe and its members.

3. The Tribe is the owner and operator of a gaming facility located on the Rancheria known as the Cher-Ae Heights Bingo & Casino (hereinafter Facility), at which Class II and Class III Gaming is conducted pursuant to the Tribe's Gaming Ordinance and a Compact executed with the State of California on September 10, 1999, ratified by the California Legislature, approved by the Secretary of the Interior on May 5, 2000, and published in the Federal Register on May 16, 2000.

4. The Facility, located on trust land, is an integral and indispensable part of the Tribe's economy, providing income to the Tribe and training and employment to its members.

5. The Facility includes a restaurant and lounge area separate from the area in which Class III Gaming activity is conducted and at which food and beverages are provided to patrons (hereinafter referred to as Premises).

6. The Community Council has determined that it is now in its best interest to offer for sale and consumption in this specified Premises only alcoholic beverages.

7. It is the purpose of this Ordinance to set out the terms and conditions under which the sale of said alcoholic beverages may take place.

III. General Terms

1. The sale of alcohol within the Premises, for on-Premises consumption only, is hereby authorized.

2. No alcoholic beverages may be sold at any location on the Rancheria other than within the Premises. For the purpose of this section, the term Premises shall include only area within the perimeter of the restaurant and lounge, which shall be separate from any Class III gaming activity.

3. The sale of said alcoholic beverages authorized by this Ordinance shall be in conformity with all applicable laws of the State of California and applicable federal laws, and the sale of said beverages shall be subject to state sales tax, federal excise tax and any fees required by the Federal Bureau of Alcohol, Tobacco & Firearms. This includes but is not limited to the following examples:

a. No person under the age of 21 years shall consume, acquire or have in his or her possession at the Premises any alcoholic beverage.

b. No person shall sell alcohol to any person under the age of 21 at the Premises.

c. No person shall sell alcohol to a person apparently under the influence of liquor at the Premises.

4. Where there may be a question of a person's right to purchase liquor by reason of his or her age, such person shall be required to present any one of the following types of identification which shows his or her correct age and bears his or her signature and photograph: (1) Driver's license or identification card issued by any state Department of Motor Vehicles; (2) United States Active Duty Military card; (3) passport.

5. All liquor sales within the Premises shall be on a cash only basis and no credit shall be extended to any person, organization or entity, except that this provision does not prevent the use of major credit cards.

IV. Posting

This Ordinance shall be conspicuously posted within the Premises at all times it is open to the public.

V. Enforcement

1. The Gaming Commission may enforce this Ordinance by implementation of monetary fines not to exceed $500 and/or withdrawal of authorization to sell alcohol at the Premises. Prior to any enforcement action, Gaming Commission shall provide the alleged offender of this ordinance with at least three (3) days notice of an opportunity to be heard during a specially called meeting. The decision of the Gaming Commission shall be final.

2. This Ordinance also may be enforced by the Humboldt County Sheriff's Office at the request of the Gaming Commission.

VI. Severability

If any provision or application of this ordinance is determined by review to be invalid, such adjudication shall not be held to render ineffectual the remaining portions of this title or to render such provisions inapplicable to other persons or circumstances.

VII. Amendment

This ordinance may only be amended by a majority vote of the Community Council.

VIII. Sovereign Immunity

Nothing in this ordinance in any way limits, alters, restricts or waives the Tribe's sovereign immunity from unconsented suit or action.

IX. Effective Date

This Ordinance shall become effective following its certification by the Secretary of the Interior and its publication in the Federal Register.

[FR Doc. 02-8818 Filed 4-10-02; 8:45 am]

BILLING CODE 4310-4J-P